DEPARTMENT OF THE INTERIOR

Bureau of Land Management

[LLCOF02000.L16100000.DP0000]

Notice of Intent To Prepare the Eastern Colorado Resource Management Plan and an Associated Environmental Impact Statement for the Royal Gorge Field Office, Colorado

AGENCY: Bureau of Land Management, Interior.

ACTION: Notice of intent.

SUMMARY: In compliance with the National Environmental Policy Act of 1969, as amended (NEPA), and the Federal Land Policy and Management Act of 1976, as amended (FLPMA), the Bureau of Land Management (BLM) Royal Gorge Field Office (RGFO), Cañon City, Colorado, intends to prepare a Resource Management Plan (RMP) with an associated Environmental Impact Statement (EIS). By this notice, the BLM is announcing the beginning of the scoping process to solicit public comments and identify issues. The RMP will replace the existing 1996 Royal Gorge RMP and the 1986 Northeast RMP. The BLM is also soliciting resource information for coal and other resources in the planning area.

DATES: This notice initiates the public scoping process for the RMP with an associated EIS. Comments on issues may be submitted in writing until July 31, 2015. The date(s) and location(s) of any scoping meetings will be announced at least 15 days in advance through local media, newspapers and the BLM Web site at: http://www.blm.gov/co/st/en/fo/rgfo.html. In order to be included in the Draft EIS, all comments must be received prior to the close of the 60-day scoping period or 15 days after the last public meeting, whichever is later. We will provide additional opportunities for public participation upon publication of the Draft RMP/EIS.

ADDRESSES: You may submit comments on issues and planning criteria related to the RGFO RMP/EIS by any of the following methods:

• Web site: http://www.blm.gov/co/st/en/fo/rgfo.html.

• Email: rgfo_rmp_comments@blm.gov.

• Fax: 719-269-8599.

• Mail: BLM Royal Gorge Field Office, 3028 E. Main St., Cañon City, CO 81212.

Documents pertinent to this proposal may be examined at the RGFO at the address above.

FOR FURTHER INFORMATION CONTACT: John Smeins, RMP Project Manager; telephone, 719-269-8581; BLM Royal Gorge Field Office (see ADDRESSES section); email, rgfo_rmp_comments@blm.gov. Contact Mr. Smeins to add your name to our mailing list. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: This document provides notice that the BLM intends to prepare an RMP with an associated EIS for the RGFO, announces the beginning of the scoping process, and seeks public input on issues and planning criteria. The RMP will be titled “Eastern Colorado RMP”. The planning area is located in 38 counties in eastern Colorado and encompasses approximately 668,000 surface acres of public land and 6.6 million acres of mineral estate. A Master Leasing Plan for the South Park area will be considered. The purpose of the public scoping process is to determine relevant issues that will influence the scope of the environmental analysis, seek nominations for Areas of Critical Environmental Concern (ACEC), and guide the planning process. The following preliminary issues to be analyzed in the planning area were identified by BLM personnel; Federal, State and local agencies; and other stakeholders:

• Identifying authorized and permitted land uses for growing populations and expanding urban interface with consideration for community interests and needs;

• Addressing increasing numbers and types of human activities and uses;

• Managing vegetative and water resources, terrestrial and aquatic habitat, and special management areas (ACEC nominations), while sustaining biological diversity and native species populations;

• Managing minerals, and renewable and nonrenewable energy resources;

• Considering land tenure adjustments, split estate, areas recommended for withdrawal, and utility/energy corridors;

• Managing and protecting cultural, historical, and paleontological resources, and Native American heritage resources; and

• Considering opportunities for appropriate regional mitigation, including identifying priority areas for both conservation and development.

Preliminary planning criteria include:

• Complying with FLPMA, NEPA and other applicable laws and regulations;

• Encouraging public participation and collaboration;

• Consulting with American Indian tribes and strategies for protecting recognized sacred areas, Traditional Cultural Properties, and traditional use areas;

• Establishing collaborative partnerships with cooperating agencies and other interested groups, agencies, and individuals;

• Incorporating the BLM Colorado Standards for Public Land Health;

• Continuing management of Wilderness Study Areas under the Interim Management Policy for Lands under Wilderness Review until Congress acts on a designation or releases lands from consideration;

• Recognizing valid existing land use and ownership rights;

• Including adaptive management criteria to explore alternative ways to meet management objectives in the future;

• Complying with existing plans and policies of adjacent local, State and Federal agencies and local American Indian tribes; and

• Using the best available scientific information and research where practicable for the planning effort.

You may submit comments on issues and planning criteria in writing to the BLM at any public scoping meeting, or you may submit them to the BLM using one of the methods listed in the ADDRESSES section above. To be most helpful, you should submit comments by the close of the 60-day scoping period or within 15 days after the last public meeting, whichever is later. Before including your address, phone number, email address, or other personal identifying information in your comment, you should be aware that your entire comment—including your personal identifying information—may be made publicly available at any time. While you can ask us in your comment to withhold your personal identifying information from public review, we cannot guarantee that we will be able to do so.

The BLM will evaluate identified issues to be addressed in the plan, and will place them into one of three categories:

1. Issues to be resolved in the plan;

2. Issues to be resolved through policy or administrative action; or

3. Issues beyond the scope of this plan.

The BLM will provide an explanation in the Draft RMP/Draft EIS as to why an issue was placed in category two or three. The public is also encouraged to help identify any management questions and concerns that should be addressed in the plan. The BLM will work collaboratively with interested parties to identify management decisions that are best suited to local, regional, and national needs and concerns.

Parties interested in leasing and development of Federal coal in the planning area should provide coal resource data for their area(s) of interest. Specifically, information is requested on the location, quality and quantity of Federal coal with development potential, and on surface resource values related to the 20 coal mining unsuitability criteria described in 43 CFR part 3461. This information will be used for any necessary updating of coal screening determination (43 CFR 3420.1-4) in the Decision Area and in the environmental analysis for the RMP. Proprietary data marked as confidential may be submitted in response to this call for coal information. Please submit all proprietary information to the address listed above. The BLM will treat submissions marked as “Confidential” in accordance with applicable laws and regulations governing the confidentiality of such information.

The BLM is also requesting nominations of areas for ACEC designation. To be considered as a potential ACEC, an area must meet the criteria of relevance and importance as established and defined in 43 CFR 1610.7-2. Nominations must include descriptive materials, detailed maps and evidence supporting the relevance and importance of the resource or area. There are currently nine ACECs within the RGFO boundary designated by the 1996 Royal Gorge RMP: Arkansas Canyonlands, Beaver Creek, Browns Canyon, Cucharas Canyon, Droney Gulch, Garden Park, Grape Creek, Mosquito Pass and Phantom Canyon. All ACEC nominations within the planning area will be evaluated through the RMP process.

The BLM will use NEPA public participation requirements to assist the agency in satisfying the public involvement requirements under Section 106 of the National Historic Preservation Act (NHPA), 16 U.S.C. 470(f), pursuant to 36 CFR 800.2(d)(3). The information about historic and cultural resources within the area potentially affected by the proposed action will assist the BLM in identifying and evaluating impacts to such resources in the context of both NEPA and Section 106 of the NHPA.

The BLM will consult with Indian tribes on a government-to-government basis in accordance with Executive Order 13175 and other policies. Tribal interests, including impacts on Indian trust assets and potential impacts to cultural resources, will be given due consideration. Federal, State and local agencies, along with tribes and other stakeholders that may be interested in or affected by the proposed action that the BLM is evaluating, are invited to participate in the scoping process and, if eligible, may request or be requested by the BLM to participate in the development of the environmental analysis as a cooperating agency.

The BLM will use an interdisciplinary approach to develop the plan to consider the variety of resource issues and concerns identified. Specialists with expertise in the following disciplines will be involved in the planning process: Wildlife; threatened and endangered species; vegetation; riparian and wetlands; soils; invasive and noxious weeds; rangeland management; fire ecology and management; cultural resources and Native American interests; hydrology; geology and minerals; lands and realty; recreation; visual resource management; public safety; law enforcement; and Geographic Information Systems.

Ruth Welch,
BLM Colorado State Director.

Authority: 40 CFR 1501.7, 43 CFR 1610.2

[FR Doc. 2015-13060 Filed 5-29-15; 8:45 am]

BILLING CODE 4310-JB-P